DEPARTMENT OF TRANSPORTATION

Research and Special Programs Administration

49 CFR Parts 192 and 195

[Docket No. RSPA-98-4868 (gas), Notice 3; and RSPA-03-15864 (liquid), Notice 1]

Gas and Hazardous Liquid Gathering Lines

AGENCY: Research and Special Programs Administration (RSPA), DOT.

ACTION: Notice of public meeting and request for comments.

SUMMARY: This document announces a public meeting and an opportunity to submit written comments on the safety regulation of gas and hazardous liquid gathering lines. Congress has directed RSPA to define “gathering line” for gas and hazardous liquid pipeline transportation and, if appropriate, define as “regulated gathering line” those rural gathering lines that, because of specific physical characteristics, should be regulated. The gas pipeline regulations do not clearly distinguish gathering lines from production facilities and transmission lines. This lack of clarity has caused many disputes between government and industry over whether the regulations cover particular pipelines. The current definition of hazardous liquid gathering has worked well. We will consider all public comments in developing future proposals on gathering lines.

DATES: The deadline for submitting written comments is January 17, 2004. The public meeting will occur Tuesday, December 16, 2003, from 8:30 am to 4:30 pm, and Wednesday, December 17, 2003, from 8:30 am to 4:30 p.m.

ADDRESSES: The meeting will take place at the Anchorage Marriott Downtown, 820 W. 7th Ave., Anchorage, AK 99506 phone: (907) 279-8000. You may participate in the meeting by making oral or written comments about any of the topics discussed in this notice. You may also submit written comments directly to the dockets by any of the following methods:

• Mail: Dockets Facility, U.S. Department of Transportation, Room PL-401, 400 Seventh Street SW., 20590-0001. Anyone wanting confirmation of mailed comments must include a self-addressed stamped postcard.

• Hand delivery or courier: Room PL-401, 400 Seventh Street, SW., Washington, DC. The Dockets Facility is open from 10 am to 5 pm, Monday through Friday, except Federal holidays.

• Web site: Go to http://dms.dot.gov, click on “Comment/Submissions” and follow instructions at the site.

Further instructions about the meeting and submission of written comments are under the Public Participation heading of the SUPPLEMENTARY INFORMATION section of this notice.

Docket access. For copies of this notice or other material in the docket, you may contact the Dockets Facility by phone (202) 366-9329 or visit the facility at the above street address. For Web access to the dockets to read and download filed material, go to http://dms.dot.gov/search. Then type in the last four digits of the gas or liquid docket number shown in the heading of this notice, and click on “Search.” A transcript of the meeting should be available in the dockets about 3 weeks after the meeting.

FOR FURTHER INFORMATION CONTACT: DeWitt Burdeaux by phone at (405) 954-7220 or by e-mail at dewitt_burdeaux@tsi.jccbi.gov regarding the subject matter of this notice.

SUPPLEMENTARY INFORMATION:

Public Participation

Oral comments. Anyone who wants to make an oral presentation at the meeting should notify Janice Morgan by December 5, 2003, by phone, (202) 366-2392, or by e-mail; janice.morgan@rspa.dot.gov. Please state the topic of your presentation and the amount of time requested. If necessary, the presiding officer may limit the time for oral presentations so that everyone who requests an opportunity to speak may do so. Those who do not request time for presentations in advance may have an opportunity to speak as time allows. On Tuesday, December 16, 2003, the agenda for the meeting will focus on gas gathering and on Wednesday, December 17, 2003, liquid gathering.

Written comments. The deadline for submitting written comments to the dockets is January 17, 2004. Late filed comments will be considered as far as practicable. All written comments should identify the gas or liquid docket number and notice number stated in the heading of this notice. Written comments submitted at the meeting will be included in the meeting transcript or filed in the dockets.

Privacy Act Information. Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Individuals with Disabilities. For information on facilities or services for individuals with disabilities, or to request special assistance at the meeting, contact Janice Morgan by phone, (202) 366-2392, or by e-mail: janice.morgan@rspa.dot.gov.

Background

Gas Gathering Line Definition. RSPA's gas pipeline safety regulations in 49 CFR part 192 apply to pipelines used in the gathering, transmission, or distribution of gas, except gathering lines in rural locations and certain offshore pipelines (§ 192.1). As defined in § 192.3, “gathering line” means “a pipeline that transports gas from a current production facility to a transmission line or main.” Although part 192 does not define “production facility,” it does define “transmission line” and “main.” However, under § 192.3, the definition of “transmission line” refers to a pipeline “other than a gathering line.” Also, the definition of “main” refers to “distribution line,” which means a “pipeline other than a gathering or transmission line.”

The absence of a production facility definition and the circular logic of the definitions of gathering line, transmission line, and distribution line have made it difficult to determine the beginning and end of gathering lines covered by part 192. It is also difficult to determine which pipelines are exempt from part 192 as rural gathering lines. Inspectors from RSPA-s five regional offices have often disagreed with pipeline operators across the nation over whether pipelines are gathering or transmission lines. In 1986, RSPA asked the National Association of Pipeline Safety Representatives (NAPSR) for comments on the gathering line problem. Responses from NAPSR members showed that in the 30 States where gathering lines exist, there are at least 2,800 gathering operators and 111,000 miles of gathering lines (as interpreted by the States). NAPSR members from five States, with about 54 percent of gathering-line operators and 75 percent of the mileage, said they had disagreements with operators over classifying rural pipelines as gathering lines or transmission lines. Members from three of these States said the disagreements were too numerous to list. One NAPSR member recalled many disagreements with two major gas gathering and transmission pipeline operators over where a gathering line ends. Another NAPSR member related continuing disagreements over the classification of various segments of pipeline operated by one of the largest gas gathering line operators in the United States.

The difficulty of identifying gas gathering lines not only affects government enforcement of the part 192 safety standards, but it also affects other program areas. RSPA annually collects user fees from gas pipeline operators to recoup regulatory program costs. However, by law, these fees are only assessable for costs related to transmission lines. In addition, the Pipeline Safety Improvement Act of 2002 (Pub. L. 107-355; Dec. 17, 2002) requires operators to provide to RSPA, certain geospatial data and other information for use in the National Pipeline Mapping System. However, gathering and distribution lines are specifically excluded from this requirement.

Seeking to resolve the gas gathering line interpretive problem, RSPA proposed to amend part 192 gathering line definition (Docket PS-122; 56 FR 48505; Sept. 25, 1991).¹ However, because the public response was generally unfavorable, with industry commenters disputing the significance of the problem and alleging wholesale reclassification of lines, RSPA delayed final action pending the collection and consideration of further information. Meanwhile, Congress amended the pipeline safety law, directing RSPA to define the term “gathering line” for both gas and hazardous liquid pipelines, and define as “regulated gathering line” those rural gathering lines that, because of specific physical characteristics, should be regulated.² In furtherance of the proceeding begun in 1991 and the Congressional directive, RSPA opened an internet discussion of the gathering line issue, which focused on a definition offered by Gas Processors Association (Docket No. RSPA-98-4868; 64 FR 12147; Mar. 11, 1999). The discussion, which involved 100 participants, included a comprehensive treatment by the American Petroleum Institute for a coalition of trade associations.³ However, RSPA and NAPSR were concerned that the coalition's suggested gathering line definition was based on certain “furthermost downstream” points that are subject to change. As a stopgap, while continuing to decide on a suitable alternative to the 1991 gathering line proposal, RSPA published an advisory bulletin interpreting the end of gas gathering based on court precedent and historical interpretation (ADB-02-06; 67 FR 64447; Oct.18, 2002).⁴

¹ The proposal was: “Gathering line” means, except as provided in paragraph (4), any pipeline or part of a connected series of pipelines used to transport gas from a well or the first production facility where gas is separated from produced hydrocarbons, whichever is farther downstream, to an applicable endpoint described in paragraph (1), (2), or (3) below:

(1) The inlet of the first natural gas processing plant used to remove liquefied petroleum gases or other natural gas liquids.

(2) If there is no natural gas processing plant, the point where custody of the gas is transferred to others who transport it by pipeline to:

(i) a distribution center;

(ii) a gas storage facility; or

(iii) an industrial consumer.

(3) If there is no natural gas processing plant or point where custody of the gas is so transferred, the last point downstream where gas produced in the same production field or two adjacent production fields is commingled.

(4) A gathering line does not include any part of a pipeline that transports gas downstream—(i) from the end points in (1), (2), or (3) in this section; (ii) from a production facility, if no end point exists; or (iii) in any interstate transmission facility subject to the jurisdiction of the Federal Energy Regulatory Commission under the Natural Gas Act (15 U.S.C. 717 et seq.).

² The specific provisions are in 49 U.S.C. 60101(b): Gathering Lines.—(1)(A) Not later than October 24, 1994, the Secretary shall prescribe standards defining the term “gathering line”. (B) In defining “gathering line” for gas, the Secretary—(i) shall consider functional and operational characteristics of the lines to be included in the definition; and (ii) is not bound by a classification the Commission establishes under the Natural Gas Act (15 U.S.C. 717 et seq.). (2)(A) Not later than October 24, 1995, the Secretary, if appropriate, shall prescribe standards defining the term “regulated gathering line”. In defining the term, the Secretary shall consider factors such as location, length of line from the well site, operating pressure, throughput, and the composition of the transported gas or hazardous liquid, as appropriate, in deciding on the types of lines that functionally are gathering but should be regulated under this chapter because of specific physical characteristics. (B)(i) The Secretary also shall consider diameter when defining “regulated gathering line” for hazardous liquid. (ii) The definition of “regulated gathering line” for hazardous liquid may not include a crude oil gathering line that has a nominal diameter of not more than 6 inches, is operated at low pressure, and is located in a rural area that is not unusually sensitive to environmental damage.

³ The coalition suggested the following definition of “gathering line”: (a) means any pipeline or part of a connected series of pipelines used to

(1) transport gas from the furthermost downstream point in a production operation to the furthermost downstream of the following endpoints, with possible intermediate deliveries to other production operations, pipeline facilities, farm taps, or residential/commercial/industrial end users: (A) the inlet of the furthermost downstream natural gas processing plant, other than a natural gas processing plant located on a transmission line, (B) the outlet of the furthermost downstream gathering line gas treatment facility, (C) the furthermost downstream point where gas produced in the same production field or separate production fields is commingled, (D) the outlet of the furthermost downstream compressor station used to lower gathering line operating pressure to facilitate deliveries into the pipeline from production operations or to increase gathering line pressure for delivery to another pipeline, or (E) the connection to another pipeline downstream of: (i) the furthermost downstream endpoint identified in (A), (B), (C) or (D), or (in the absence of such endpoint) (ii) the furthermost downstream production operation; or

(2) transport gas from a point other than in a production operation exclusively to points in or adjacent to one or more production operations or gathering facility sites for use as fuel, gas lift, or gas injection gas within those operations; and (b) does not include a natural gas processing plant.

⁴ ADB-02-06:

To: Owners and Operators of Natural Gas Pipeline Facilities.

Subject: Standards for classifying natural gas gathering lines.

Purpose: To inform operators of the standards OPS currently uses to classify natural gas gathering lines.

Advisory: Standards for classification of natural gas gathering lines.

Until OPS completes its rulemaking to better define natural gas gathering lines (Docket No. RSPA-98-4868), OPS will continue to classify lines according to the four-point standard established through court precedent and historical interpretation. OPS will also continue to classify lines that pose unique difficulties of classification on a case-by-case basis. In brief, in the most common situation, gathering begins at or near the well head. In most cases, the gathering process terminates at the outlet of a processing plant. A processing plant is defined by the extraction of heavy ends from the natural gas. If there is no upstream processing plant, the gathering process terminates at the outlet of a pipeline compressor. For the purposes of determining the termination point of the gas gathering process, OPS does not consider a well head compressor (field compressor) to be a pipeline compressor. If there is no processing plant or pipeline compressor, the point at which the gathering process ends is where two or more well pipelines converge. If none of these points applies, the gas gathering termination point is where there is a change in ownership of the pipeline. These points are determined on a case-by-case basis considering the location of the pipeline in relation to population density, major traffic areas, and environmentally sensitive areas. To summarize, OPS considers the termination of gas gathering to be: (1) The outlet of a processing plant that extracts heavy ends from the natural gas; (2) The outlet of a pipeline compressor (not including a well head compressor); (3) The point where two or more well pipelines converge; or (4) The point where there is a change in ownership of the pipeline.

Hazardous Liquid Gathering Line Definition. RSPA's hazardous liquid pipeline safety regulations in 49 CFR part 195 apply to the transportation by pipeline of hazardous liquid (petroleum, petroleum products, and anhydrous ammonia) and carbon dioxide (in a supercritical state), except gathering lines in rural areas and certain other pipelines (§ 195.1). The term “gathering line” is defined in § 195.2 as “a pipeline 219.1 mm (8⅝ in) or less nominal outside diameter that transports petroleum from a production facility.” Section 195.2 also defines “production facility” and “rural area” without reference to the gathering line definition. RSPA has had little difficulty applying these definitions to identify gathering lines subject to part 195 or those excluded from part 195 because of location in rural areas.

Purpose of Meeting and Request for Comment

RSPA, working with NAPSR, is continuing to assess the acceptability of the present definitions of gas and hazardous liquid gathering lines and related definitions for purposes of determining the beginning and end of gathering. We are particularly concerned about the impreciseness of the gas definition. We are inviting new public input to this process, which we hope will be informed by the history of previously proposed definitions and their shortcomings.

We also are considering the need to establish safety regulations for onshore gas and hazardous liquid gathering lines in rural areas. While Congress initially exempted these lines from Federal regulation, it has granted DOT/RSPA authority to regulate rural gathering lines whose physical characteristics pose a special risk to the public. We are interested in receiving ideas on what situations would make it appropriate to regulate the safety of rural gathering lines, and what those regulations should be. Potential commenters should keep in mind that the pipeline industry's consensus standards in ASME B31.4 and ASME B31.8 apply to rural gathering lines.

We are especially interested in receiving comments on the following:

(1) The point where gas production ends and gas gathering begins.

(2) The point where gas gathering ends and gas transmission or distribution begins.

(3) In defining “regulated gathering line,” whether we should consider factors besides those that Congress specified (see footnote 2). For example, should we consider population density (by census or house count), or for hazardous liquid lines, potential for environmental damage.

(4) Whether part 195 should apply to rural gathering lines that operate at more than 20 percent of specified minimum yield strength, or that could adversely affect an “unusually sensitive area” as defined in § 195.6. (Note that certain crude oil gathering lines are, by law, exempt from safety regulation (see footnote 2)).

(5) If you recommend safety regulations for rural gas or hazardous liquid gathering lines, to which rural lines would the regulations apply and why, approximately how many miles would be covered by the regulations, and what would be the estimated cost per mile of complying with the regulations.

(6) The approximate mileage of rural gathering lines not now covered by part 195.

(7) Whether safety regulations for gas or hazardous liquid rural gathering lines operating at low stress (e.g., 20 percent or less of specified minimum yield strength) or a specified pressure for plastic lines should be fewer and possibly less stringent than regulations for other rural gathering lines.

There will be an open session for questions and answers before the close of the meeting.

In an earlier notice (68 FR 62555; Nov. 5, 2003), we announced that a public meeting on the regulation of gathering lines would be held in Austin, Texas on November 19 and 20 at the Omni Austin Hotel. That notice set December 19, 2003, as the deadline for submitting written comments to Docket No. RSPA-98-4868. However, as provided in the present notice, the deadline is now January 17, 2004. Additional meetings are being planned, and dates and places will be announced in future notices.

Authority: 49 U.S.C. Chapter 601 and 49 CFR 1.53.

Issued in Washington, DC, on November 18, 2003.
Stacey L. Gerard,
Associate Administrator for Pipeline Safety.

[FR Doc. 03-29394 Filed 11-28-03; 8:45 am]

BILLING CODE 4910-60-P